DEPARTMENT OF THE INTERIOR

National Park Service

[NPS-WASO-NAGPRA-NPS0038093; PPWOCRADN0-PCU00RP14.R50000]

Notice of Inventory Completion: California Department of Transportation, Sacramento, CA

AGENCY: National Park Service, Interior.

ACTION: Notice.

SUMMARY: In accordance with the Native American Graves Protection and Repatriation Act (NAGPRA), the California Department of Transportation (Caltrans), has completed an inventory of human remains and associated funerary objects and has determined that there is a cultural affiliation between the human remains and associated funerary objects and Indian Tribes or Native Hawaiian organizations in this notice. The human remains and associated funerary objects were removed from Lake County, CA.

DATES: Repatriation of the human remains and associated funerary objects in this notice may occur on or after July 17, 2024.

ADDRESSES: Marisol Espino, California Department of Transportation, 703 B Street, Marysville, CA 95901, telephone (530) 812-4546, email Marisol.Espino@dot.ca.gov.

SUPPLEMENTARY INFORMATION: This notice is published as part of the National Park Service's administrative responsibilities under NAGPRA. The determinations in this notice are the sole responsibility of Caltrans, and additional information on the determinations in this notice, including the results of consultation, can be found in the inventory or related records. The National Park Service is not responsible for the determinations in this notice.

Abstract of Information Available

Based on the information available, human remains representing at least one individual have been reasonably identified. The 528 catalog entries of associated funerary objects (221 from Acc. 75-12 and 307 from Acc. 362) are modified stone, unmodified stone, debitage, unmodified faunal elements, modified faunal elements, historic material, modified shell, organics, and charcoal samples. Eighteen objects represented by 12 catalog entries are missing from the collections, and Caltrans and CSU Chico continue to look for them. These objects were not identified during the catalog verification process.

The individual and associated funerary objects are from archaeological site CA-LAK-435, which is located in Lake County, California. They were recovered as a part of excavations undertaken by Caltrans in 1975 for widening of State Route 20 and again in 2004 for roadway rehabilitation activities. These human remains and associated funerary objects are controlled by Caltrans and in the possession of California State University, Chico (CSUC).

A Notice of Inventory Completion (66 FR 54283) published in the Federal Register on October 26, 2001, for Native American human remains and associated funerary objects related to the 1975 excavation, which were previously in the possession of Sonoma State University (SSU). The one individual and 217 catalog entries of associated funerary objects described in that notice were not repatriated at the time as no request for repatriation was received. At the request of the consulting culturally affiliated Indian Tribe, the entirely of the collection at SSU (Acc. 75-12) has been transferred into the possession of CSUC to reunite the individual and associated funerary objects with the cultural items recovered during the 2004 excavation (Acc. 362). The one individual and 528 catalog entries of associated funerary objects represent the entirety of both collections (Acc. 75-12 and Acc. 362). There is no known history of treatment of the collection with any hazardous substances at any of the repositories at this time.

Cultural Affiliation

Based on the information available and the results of consultation, cultural affiliation is reasonably identified by the geographical location or acquisition history of the human remains and associated funerary objects described in this notice.

Determinations

The California Department of Transportation has determined that:

• The human remains described in this notice represent the physical remains of one individual of Native American ancestry.

• The 528 catalog entries described in this notice are reasonably believed to have been placed intentionally with or near individual human remains at the time of death or later as part of the death rite or ceremony.

• There is a reasonable connection between the human remains and associated funerary objects described in this notice and the Habematolel Pomo of Upper Lake, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 17, 2024. If competing requests for repatriation are received, the California Department of Transportation must determine the most appropriate requestor prior to repatriation. Requests for joint repatriation of the human remains and associated funerary objects are considered a single request and not competing requests. The California Department of Transportation is responsible for sending a copy of this notice to the Indian Tribes and Native Hawaiian organizations identified in this notice.

Authority: Native American Graves Protection and Repatriation Act, 25 U.S.C. 3003, and the implementing regulations, 43 CFR 10.10.

Dated: June 7, 2024.
Melanie O'Brien,
Manager, National NAGPRA Program.

[FR Doc. 2024-13242 Filed 6-14-24; 8:45 am]

BILLING CODE 4312-52-P